DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of one individual whose property and interests in property is blocked pursuant to Executive Order 13224 of September 23, 2001, “Blocking Property and Prohibiting Transactions With Persons Who Commit, Threaten To Commit, or Support Terrorism.”

DATES: OFAC's action described in this notice is effective on October 20, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On October 20, 2015, OFAC blocked the property and interests in property of the following individual pursuant to E.O. 13224, “Blocking Property and Prohibiting Transactions With Persons Who Commit, Threaten To Commit, or Support Terrorism”:

AGHA, Torek (a.k.a. AGHA, Torak; a.k.a. AGHA, Toriq; a.k.a. HASHAN, Sayed Mohammad; a.k.a. SAYED, Toriq Agha), Pashtunabad, Quetta, Pakistan; DOB 01 Jan 1964 to 31 Dec 1966; alt. DOB 01 Jan 1961 to 31 Dec 1963; alt. DOB 1960; POB Kandahar Province, Afghanistan; alt. POB Pishin, Balochistan Province, Pakistan; Identification Number 5430312277059 (Pakistan); Haji (individual) [SDGT] (Linked To: TALIBAN).

Dated: October 20, 2015.
John E. Smith,
Acting Director, Office of Foreign Assets Control.

[FR Doc. 2015-27116 Filed 10-23-15; 8:45 am]

BILLING CODE 4810-AL-P